EXPORT-IMPORT BANK OF THE UNITED STATES

Sunshine Act Meeting

ACTION: Notice of a Partially Open Meeting of the Board of Directors of the Export-Import Bank of the United States.

Time and Place: Wednesday, January 19, 2005 at 9:30 a.m. The meeting will be held at Ex-Im Bank in Room 1143, 811 Vermont Avenue, NW., Washington, DC 20571.

Open Agenda Item: Ex-Im Bank Advisory Committee for 2005.

Public Participation: The meeting will be open to public participation for Item No. 1 only.

FOR FURTHER INFORMATION CONTACT: Office of the Secretary, 811 Vermont Avenue, NW., Washington, DC 20571 (Tele. No. 202-565-3957).

Peter B. Saba,
General Counsel.

[FR Doc. 05-1193 Filed 1-14-05; 4:12 pm]

BILLING CODE 6690-01-M